Proclamation 7527 of March 2, 2002

National Colorectal Cancer Awareness Month, 2002

By the President of the United States of America

A Proclamation

This year, more than 148,000 people will be diagnosed with colorectal cancer, and more than 56,000 people will die from this disease. Colorectal cancer is the second leading cause of cancer-related death in the United States, yet it is one of the most highly preventable forms of cancer. Early diagnosis is critical to survival. Research shows that 91 percent of patients with localized colorectal cancer survive for 5 years after diagnosis, yet only 37 percent of all diagnoses occur at this stage. The remaining 63 percent of cases are not discovered until the disease has spread throughout the body.

Because 75 percent of new cases occur in persons with no known risk factors, regular colorectal cancer screenings are crucial to prevention. Even for an individual without symptoms, screenings are extremely important. For those over 50 and for individuals with a family history of cancer, screenings should be scheduled on a regular basis. I am pleased to note that Medicare coverage for colonoscopies was expanded in 2001 to provide this screening to more beneficiaries, and many commercial health plans now cover this cost.

Many people avoid colorectal cancer screening due to fear or anxiety, however, it is important for all Americans to understand the importance of this routine procedure. During National Colorectal Cancer Awareness Month, I encourage all Americans to learn more about this disease, to assist prevention efforts, and to recognize the importance of colorectal screenings.

NOW, THEREFORE, I, GEORGE W. BUSH, President of the United States of America, by virtue of the authority vested in me by the Constitution and laws of the United States, do hereby proclaim March 2002 as National Colorectal Cancer Awareness Month. I call upon all Americans to take appropriate measures to protect themselves and their loved ones from this disease.

IN WITNESS WHEREOF, I have hereunto set my hand this Second day of March, in the year of our Lord two thousand two, and of the Independence of the United States of America the two hundred and twenty-sixth.

B

[FR Doc. 02-5507

Filed 3-5-02; 8:45 am]

Billing code 3195-01-P